INTERNATIONAL TRADE COMMISSION

[Investigation No. 337-TA-429]

Certain Bar Clamps, Bar Clamp Pads, and Related Packaging, Display and Other Materials; Notice of Commission Decision To Grant-In-Part a Joint Motion for Termination of Investigation

AGENCY: U.S. International Trade Commission.

ACTION: Notice.

SUMMARY: Notice is hereby given that the U.S. International Trade Commission has decided to grant-in-part a joint motion for termination of the above-captioned investigation based on a settlement agreement.

FOR FURTHER INFORMATION CONTACT: David I. Wilson, Esq., Office of the General Counsel, U.S. International Trade Commission, telephone 202-708-2310. General information concerning the Commission also may be obtained by accessing its Internet server (http://www.usitc.gov). Hearing-impaired individuals can obtain information concerning this matter by contacting the Commission's TDD terminal at 202-205-1810. The public record for this investigation may be viewed on the Commission's electronic docket (EDIS-ON-LINE) at http://dockets.usitc.gov/eol/public.

SUPPLEMENTARY INFORMATION: The Commission instituted the investigation to determine whether there is a violation of section 337 of the Tariff Act of 1930 in the importation into the United States, the sale for importation, and the sale within the United States after importation of certain bar clamps, bar clamp pads, and related packaging, display, and other materials. The complainants were American Tool Companies, Inc., and its subsidiary, Peterson Manufacturing Co., Inc. The respondents were Wolfcraft GmbH and Wolfcraft, Inc. The complainants alleged that the respondents' imported merchandise infringes claims of a U.S. patent owned by complainants, infringes complainants' registered trademark, and misappropriated complainants' trade dress. See 65 FR 13307 (Mar. 13, 2001).

The patent-based portion of the complaint was deemed withdrawn and that portion of the investigation was terminated when the Commission granted complainants' motion to amend the complaint and notice of investigation (Motion No. 429-4) (Sept. 6, 2000). See Commission Order (Jan. 4, 2001) and Commission Opinion (Jan. 4, 2001).

On March 13, 2001, the ALJ issued his final ID, pursuant to 19 CFR 210.42(a)(1), holding that there is no violation of section 337 in the importation and sale of the respondents' merchandise.

On July 3, 2001, complainants and respondents filed a joint motion (Motion No. 429-10C) in which they sought (a) vacatur of the final ID, (2) termination of the investigation with prejudice and (3) withdrawal of respondents' sanctions motion.

The Commission denied the requests in the joint motion that the investigation be terminated with prejudice, and granted the requests that the ID be vacated and that respondents' motion for sanctions be withdrawn.

The authorities for this action are section 337(c) of the Tariff Act of 1930, 19 U.S.C. 1337(c), and Commission rules 210.46(a) and 210.42(h)(2) and (i), 19 CFR 210.46(a), and 210.42(h)(2) and (i).

All nonconfidential documents filed in the investigation are or will be available for public inspection during official business hours (8:45 a.m. to 5:15 p.m.) in the Commission's Office of the Secretary, Dockets Branch, 500 E Street, SW., Room 112, Washington, DC 20436, telephone 202-205-1802.

By Order of the Commission.
Issued: December 3, 2001.
Donna R. Koehnke,
Secretary.

[FR Doc. 01-30362 Filed 12-6-01; 8:45 am]

BILLING CODE 7020-02-P